FEDERAL COMMUNICATIONS COMMISSION

Sunshine Act Open Commission Meeting

Date: February 8, 2012.

The Federal Communications Commission will hold an Open Meeting on the subjects listed below on Wednesday, February 15, 2012 which is scheduled to commence at 10:30 a.m. in Room TW-C305, at 445 12th Street SW., Washington, DC.

Item Nos. | Bureau | Subject
1 | Consumer & Governmental Affairs | Title: Rules and Regulations Implementing the Telephone Consumer Protection Act of 1991 (CG Docket No. 02-278) Summary: The Commission will consider a Report and Order that protects consumers from unwanted autodialed or prerecorded calls (“robocalls”) by adopting rules that ensure consumers have given prior express consent before receiving robocalls, can easily opt out of further robocalls, and will experience “abandoned” telemarketing calls only in strictly limited instances.
2 | Wireless Tele-Communications | Title: Amendment of Parts 1 and 22 of the Commission's Rules With Regard to the Cellular Service, Including Changes in Licensing of Unserved Area (RM 11510); Amendment of the Commission's Rules With Regard to Relocation of Part 24 to Part 27 and Interim Restrictions and Procedures for Cellular Service Applications Summary: The Commission will consider, as part of its ongoing efforts to remove outdated regulations and reduce unnecessary regulatory burdens, a Notice of Proposed Rulemaking and Order proposing a staged approach to revising the licensing model for the Cellular Service from site-based to geographically-based licensing. The proposal will offer greater flexibility and reduce regulatory requirements, while enabling greater rural deployment of wireless service. The item also includes several other proposals to update the Cellular Service rules, as well as interim procedures for Cellular Service applications.
3 | Public Safety and Homeland Security | Title: The Proposed Extension of Part 4 of the Commission's Rules Regarding Outage Reporting to Interconnected Voice Over Internet Protocol Service Providers and Broadband Internet Service Providers (PS Docket No. 11-82) Summary: The Commission will consider a Report and Order to extend outage reporting under Part IV of the rules to interconnected Voice over Internet Protocol (VoIP) service providers. Extended reporting will enable the Commission to fulfill statutory E9-1-1 obligations and help protect the growing number of Americans who rely on VOIP phone service.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Audrey Spivack or Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Bulah P. Wheeler,
Deputy Manager, Office of the Secretary, Office of Managing Director.

[FR Doc. 2012-3590 Filed 2-10-12; 4:15 pm]

BILLING CODE 6712-01-P